DEPARTMENT OF TRANSPORTATION

Office of the Secretary

Application of Freedom Airlines, Inc. D/B/A America West Express for Issuance of New Certificate Authority

AGENCY: Office of the Secretary, Department of Transportation.

ACTION: Notice of Order to Show Cause (Order 2002-3-3 ), Docket OST-01-11206.

SUMMARY: The Department of Transportation is directing all interested persons to show cause why it should not issue an order (1) finding Freedom Airlines, Inc. d/b/a America West Express fit, willing, and able, and (2) awarding it a certificate to engage in interstate scheduled air transportation of persons, property, and mail.

DATES: Persons wishing to file objections should do so no later than March 20, 2002.

ADDRESSES: Objections and answers to objections should be filed in Docket OST-01-11206 and addressed to Department of Transportation Dockets (SVC-124, Room PL-401), U.S. Department of Transportation, 400 Seventh Street, SW., Washington, DC 20590 and should be served upon the parties listed in Attachment A to the order.

FOR FURTHER INFORMATION CONTACT: Ms. Janet A. Davis, Air Carrier Fitness Division (X-56, Room 6401), U.S. Department of Transportation, 400 Seventh Street, SW., Washington, DC 20590, (202) 366-9721.

Dated: March 6, 2002.
Read C. Van De Water,
Assistant Secretary for Aviation and International Affairs.

[FR Doc. 02-5909 Filed 3-11-02; 8:45 am]

BILLING CODE 4910-62-P